AFRICAN DEVELOPMENT FOUNDATION

Board of Directors Meeting; This Supercedes the Announcement Published on December 1, 1999

Time: 1:00 p.m. to 4:00 p.m.

Place: ADF Headquarters, 1400 Eye St., NW., 10th Floor, Washington, DC 20005.

Date: Wednesday, 12 April 2000.

Status: Open.

Agenda

1:00 p.m.—Chairman's Report.

1:30 p.m.—President's Report.

2:30 p.m.—New Business.

3:00 p.m.—Closed Session.

4:00 p.m.—Adjournment.

If you have any questions or comments, please direct them to Dick Day, Coordinator, Office of Policy, Planning and Outreach, who can be reached at (202) 673-3916.

William R. Ford,
President.

[FR Doc. 00-8085 Filed 3-28-00; 4:49 pm]

BILLING CODE 6116-01-U